CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA) (44 U.S.C. 3506(c)(2)(A)). This program helps to ensure that requested data can be provided in the desired format, reporting burden (time and financial resources) is minimized, and the impact of the requirement on respondents can be properly assessed.

Currently, CNCS is soliciting comments concerning its recordkeeping requirement in 45 CFR 2540.205 and 2540.206. CNCS grantees and subgrantees must maintain records to document completion of required National Service Criminal History Checks. This is not a notice of proposed rulemaking.

DATES: Written comments must be submitted to the individual and office listed in the ADDRESSES section by December 22, 2015.

ADDRESSES: You may submit comments, identified by the title of the information collection activity, by any of the following methods:

(1) By mail sent to: Corporation for National and Community Service, Aaron Olszewski, Office of General Counsel; 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3467, Attention: Paperwork Reduction Act.

(4) Electronically, through www.regulations.gov.

Individuals who use a telecommunications device for the deaf (TTY-TDD) may call 1-800-833-3722 between 8:00 a.m. and 8:00 p.m. Eastern Time, Monday through Friday.

FOR FURTHER INFORMATION CONTACT: Aaron Olszewski, 202-606-6670, or by email at aolszewski@cns.gov.

SUPPLEMENTARY INFORMATION: This is not a notice of proposed rulemaking. CNCS is particularly interested in comments that:

• Evaluate whether the proposed collection of information is necessary for the efficient performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Section 189D of the National and Community Service Act of 1990, as amended, requires CNCS grantees and subgrantees to conduct a National Service Criminal History Check on individuals in covered positions. Documenting compliance with the requirement is critical to that responsibility.

Current Action

CNCS requests renewal of the previous approval.

The requirements will be used in the same manner as the existing application. CNCS also seeks to continue using the current application until the revised application is approved by OMB. The current application is due to expire on February 29, 2016.

Type of Review: Renewal of Approved Recordkeeping Requirement.

Agency: Corporation for National and Community Service.

Title: National Service Criminal History Check Recordkeeping Requirement.

OMB Number: 3045-0145.

Agency Number: None.

Affected Public: CNCS Grantees and Subgrantees.

Total Respondents: 112,357.

Frequency: Three times per covered position.

Average Time per Response: Five minutes.

Estimated Total Burden Hours: 28,089 hours.

Total Burden Cost (capital/startup): None.

Total Burden Cost (operating/maintenance): None.

Comments submitted in response to this notice will be summarized and/or included in the request for Office of Management and Budget approval; they will also become a matter of public record.

Dated: October 20, 2015.
Jeremy Joseph,
General Counsel.

[FR Doc. 2015-26996 Filed 10-22-15; 8:45 am]

BILLING CODE 6050-28-P